DEPARTMENT OF THE INTERIOR

Fish and Wildlife Service

[FWS-R4-ES-2017-N043; FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with listed species unless a Federal permit is issued that allows such activities. The Act requires that we invite public comment before issuing these permits.

DATES: We must receive written data or comments on the applications at the address given in ADDRESSES by July 13, 2017.

ADDRESSES: Reviewing Documents: Documents and other information submitted with the applications are available for review, subject to the requirements of the Privacy Act and Freedom of Information Act, by any party who submits a written request for a copy of such documents to the following office within 30 days of the date of publication of this notice: U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: Fish and Wildlife Service's Regional Office (see above).

• Email: permitsR4ES@fws.gov. Please include your name and return address in your email message. If you do not receive a confirmation from the Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; Act), and our regulations in the Code of Federal Regulations (CFR) at 50 CFR 17. With some exceptions, the Act prohibits activities with listed species unless a Federal permit is issued that allows such activities. The Act requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications

Permit Application Number: TE 079883-4

Applicant: Arkansas Highway and Transportation Department, Little Rock, AR

The applicant requests renewal of their permit to take (capture, identify, and release) the yellowcheek darter (Etheostoma moorei), Arkansas fatmucket (Lampsilis powellii), Curtis pearlymussel (Epioblasma florentina curtisii), fanshell (Cyprogenia stegaria), fat pocketbook (Potamilus capax), Neosho mucket (L. rafinesqueana), Ouachita Rock pocketbook (Arkansia wheeleri), pink mucket (L. abrupta), rabbitsfoot (Quadrula cylindrica ssp. cylindrica), scaleshell (Leptodea leptodon), snuffbox (E. triquetra), speckled pocketbook (L. streckeri), spectaclecase (Cumberlandia monodonta), turgid blossom (E. turgidula), winged mapleleaf (Q. fragosa), and American burying beetle (Nicrophorus americanus) while conducting presence/absence surveys in Arkansas.

Permit Application Number: TE 02166C-0

Applicant: Zoe D. Bryant, Tabernacle, NJ

The applicant requests an amendment to her application to take (capture with mist-nets and harp traps, handle, band, and radio-tag) Indiana bats (Myotis sodalis) and northern long-eared bats (M. septentrionalis) to include authorization to conduct the proposed activities in Connecticut, Delaware, Kentucky, Maine, Maryland, Massachusetts, New Hampshire, New Jersey, New York, Pennsylvania, Rhode Island, Vermont, Virginia, and West Virginia for presence/absence surveys. The receipt of her application was originally published in the Federal Register on September 9, 2016, at which time she had not requested the inclusion of these 14 States.

Permit Application Number: TE 20288C-0

Applicant: Scott Veum, Starkville, MS

The applicant requests a permit to take (capture with mist-nets and harp traps, handle, and radio-tag) gray bats (Myotis grisescens), Indiana bats (M. sodalis), and northern long-eared bats (M. septentrionalis) for presence/absence surveys in Alabama, Arkansas, Florida, Georgia, Illinois, Indiana, Iowa, Kentucky, Louisiana, Michigan, Minnesota, Mississippi, Missouri, North Carolina, Ohio, South Carolina, Tennessee, and Wisconsin.

Permit Application Number: TE 20308C-0

Applicant: North Carolina State University, Raleigh, NC

The applicant requests a permit to take (capture with bowl traps or sweep nets) the rusty-patched bumble bee (Bombus affinis) while conducting research to describe the diversity of pollinators and determine if planted pollinator habitat is positively benefiting local pollinator communities at the Lake Wheeler Farm Complex, Wake County, North Carolina.

Permit Application Number: TE 98424B-2

Applicant: U.S. Geological Survey, Davie, FL

The applicant requests amendment of their permit to add authorization to take (capture on beach, restrain, handle, take standard carapace measurements, PIT-tag, flipper tag, collect 10 milliliters of blood from the cervical sinus, and satellite tag a subset of individuals) up to 5 Kemp's ridley sea turtles (Eretmochelys imbricata) and up to 5 green sea turtles (Chelonia mydas) annually, and to allow for morphometric measurements to be done while the turtles are laying their eggs, rather than upon completion of egg-laying, in Baldwin County, Alabama, to determine remigration intervals and conduct research into the genetics and diet (isotopes) of each individual.

Permit Application Number: TE 075916-5

Applicant: Thomas Virzi, Olympia, WA

The applicant requests renewal of his permit to continue take (capture with mist-nets, band, collect blood samples, monitor nests) of the Cape Sable seaside sparrow (Ammodramus maritimus mirabilis) and amendment of his permit to add authorization to place temperature dataloggers in nests, collect breast feathers and cloacal swabs from adults and juveniles for genetic analysis and mercury analysis, and deploy nest cameras on active nests in the incubation or brooding stages for scientific research aimed at conservation of the species.

Permit Application Number: TE 121059-3

Applicant: Peggy Measel, Salyersville, KY

The applicant requests renewal of her permit to continue take (enter hibernacula and roosts, capture with mist nets and harp traps, handle, identify, band, attach radio transmitters, and light-tag) Indiana bats (Myotis sodalis), gray bats (M. grisescens), and northern long-eared bat (M. septentrionalis) while conducting presence/absence surveys in Alabama, Arkansas, Georgia, Indiana, Kentucky, Missouri, Ohio, Tennessee, Virginia, and West Virginia.

Permit Application Number: TE 21570C-0

Applicant: Tennessee Wildlife Resources Agency Cumberland River Aquatic Center, Nashville, TN

The applicant requests a permit to take (collect from the wild, collect tissues, hold in captivity, mark, and release) 48 endangered freshwater mussel species for captive propagation, research, and reintroduction in Tennessee.

Permit Application Number: TE 129703-6

Applicant: HMB Professional Engineers, Inc., Frankfort, KY

The applicant requests renewal of their permit to continue authorization to take (enter hibernacula or maternity roost caves, capture with mist nets or harp traps, handle, identify, band, and radio-tag) Indiana bats (Myotis sodalis), gray bats (Myotis grisescens), northern long-eared bats (Myotis septentrionalis), and Virginia big-eared bats (Corynorhinus townsendii virginianus); take (capture, identify, and release) amber darter (Percina antesella), blackside dace (Chrosomus cumberlandensis), blue shiner (Cyprinella (=Notropis) caerulea), bluemask (=jewel) darter (Etheostoma akatulo), boulder (=Elk River) darter (E. wapiti), Conasauga logperch (P. jenkinsi), duskytail darter (E. percnurum), pygmy madtom (Noturus stanauli), smoky madtom (N. baileyi), and snail darter (P. tanasi); and take (capture, identify, release, and collect relict shells) 36 species of freshwater mussels, and amend their permit to add authorization to conduct those same activities with Big Sandy crayfish (Cambarus callainus), Kentucky arrow darter (E. spilotum), Cumberland darter (E. susanae), diamond darter (Crystallaria cincotta), relict darter (E. chienense), palezone shiner (Notropis albizonatus), clubshell (Pleurobema clava), northern riffleshell (Epioblasma torulosa rangiana), spectaclecase (Cumberlandia monodonta), snuffbox (E. triquetra), scaleshell (Leptodea leptodon), sheepnose (Plethobasus cyphyus), slabside pearlymussel (Pleuronaia dolabelloides), fluted kidneyshell (Ptychobranchus subtentum), and rabbitsfoot (Quadrula c. cylindrica) for presence/absence surveys in Alabama, Georgia, Indiana, Kentucky, North Carolina, Ohio, Tennessee, and West Virginia.

Permit Application Number: TE 23537C-0

Applicant: Appalachian Ecological Services, LLC, Etowah, NC

The applicant requests a permit to take (capture with mist-nets, handle, band, and radio-tag) Indiana bats (Myotis sodalis) and northern long-eared bats (M. septentrionalis) in Arkansas, Kentucky, North Carolina, Pennsylvania, Tennessee, Virginia, and West Virginia for presence/absence surveys.

Authority: We provide this notice under section 10(c) of the Act.

Dated: March 6, 2017.
Leopoldo Miranda,
Assistant Regional Director, Ecological Services, Southeast Region.

[FR Doc. 2017-12177 Filed 6-12-17; 8:45 am]

BILLING CODE 4333-15-P